DEPARTMENT OF TRANSPORTATION

Federal Transit Administration

FTA Fiscal Year 2004 Apportionments, Allocations and Program Information; Notice of Supplemental Information and Corrections

AGENCY: Federal Transit Administration (FTA), DOT.

ACTION: Notice.

SUMMARY: This notice announces that FTA will make available the entire amount of the annual apportionments and allocations when Congress extends the transit program authorization through September 30, 2004. The Surface Transportation Extension Act of 2004, Part III (Pub. L. 108-263) extended transit programs only through July 31, 2004. FTA has published three previous documents identifying total annual apportionments and funds available for obligation based on extensions of the authorization through February 29, April 30, and June 30, 2004. The previously announced available allocations remain available. This notice also identifies reductions to the previously published fiscal year (FY) 2004 full year bus and bus-related allocations to correct an administrative error.

FOR FURTHER INFORMATION CONTACT: The appropriate FTA Regional Administrator (see list at end of notice: note change of contact information for Region 8) or Mary Martha Churchman, Director, Office of Resource Management and State Programs, (202) 366-2053.

ADDRESSES: Address, telephone, and facsimile information for the FTA Regional Offices is listed at the end of this notice in Appendix A.

I. Funds Available for Obligation

The “Surface Transportation Extension Act of 2004, Part III” (Pub. L. 108-263) was signed into law by President Bush on June 30, 2004. The Act provides an extension of programs funded under the Transportation Equity Act for the 21st Century (TEA-21), pending enactment of a law reauthorizing TEA-21, and provides available funding for transit programs from October 1, 2003, through July 31, 2004.

Due to the short duration of the extension, and because Congress is expected to make the remainder of the annual funding available after July 31, FTA is not making additional funding available for immediate obligation at this time. The available amounts published in the supplemental Federal Register notice on June 3, 2004, remain available. The tables are posted on the FTA Web site at [http://www.fta.dot.gov/25_ENG_HTML.htm], together with that notice, and have been distributed to grantees by each FTA Regional Office.

II. Changes to Bus and Bus-Related Project Allocations

In the previously published tables of FY 2004 bus and bus-related projects, FTA failed to include two projects that Congress designated to receive annual funding in TEA-21 and its subsequent extensions: the Altoona Bus Testing Facility, and the fuel cell bus project conducted by Georgetown University. These projects were not listed in the conference report accompanying the Consolidated Appropriations Act, 2004, but should have been included in the allocation of funds under the FY 2004 bus and bus-related program. The addition of these two projects to FY 2004 bus and bus-related projects and activities to which the appropriated funds must be distributed results in a reduction to the annual allocation for each of the other projects. FTA regrets any inconvenience resulting from this necessary administrative correction. When the full year allocation becomes available for obligation, it will be at the reduced level listed in the Revised Table 9 in this Notice.

Issued on: July 21, 2004.
Jennifer L. Dorn,
Administrator.

BILLING CODE 4910-57-P

Appendix A—FTA Regional Offices

Region 1

Richard H. Doyle, Regional Administrator, Cambridge, MA 02142-1093, Tel. 617-494-2055, Fax 617-494-2865.

Region 2

Letitia Thompson, Regional Administrator, New York, NY 10004-1415, Tel. No. 212-668-2170, Fax 212-668-2136.

Region 3

Herman Shipman, Deputy Regional Administrator, Philadelphia, PA 19103-4124, Tel. 215-656-7100, Fax 215-656-7100.

Region 4

Hiram J. Walker, Regional Administrator, Atlanta, GA 30303, Tel. 404-562-3500, Fax 404-562-3505.

Region 5

Joel P. Ettinger, Regional Administrator, Chicago, IL 60606, Tel. 312-353-2789, Fax 312-886-0351.

Region 6

Robert C. Patrick, Regional Administrator, Fort Worth, TX 76102, Tel. 817-978-0550, Fax 817-978-0575.

Region 7

Mokhtee Ahmad, Regional Administrator, Kansas City, MO 64106, Tel. 816-329-3920, Fax 816-329-3921.

Region 8

Lee O. Waddleton, Regional Administrator, Denver, CO 80228-2583, Tel. 720-963-3300, Fax 720-963-3333.

Region 9

Leslie T. Rogers, Regional Administrator, San Francisco, CA 94105-1926, Tel. 415-744-3133, Fax 414-744-2726.

Region 10

Rick Krochalis, Regional Administrator, Seattle, WA 98174-1002, Tel. 206-220-7954, Fax 206-220-7959.

[FR Doc. 04-17022 Filed 7-26-04; 8:45 am]

BILLING CODE 4910-57-C